DEPARTMENT OF HOMELAND SECURITY

Coast Guard

[Docket Number USCG-2023-0111]

Waterway Suitability Assessment for Operation of Liquified Hazardous Gas Terminal; Orange, TX

AGENCY: Coast Guard, DHS.

ACTION: Notice and request for comments.

SUMMARY: In accordance with Coast Guard regulations, Enterprise Products has submitted a Letter of Intent and Preliminary Waterway Suitability Assessment to the Coast Guard Captain of the Port, Port Arthur, TX (COTP) regarding the company's plans to handle and transport Liquefied Hazardous Gas (LHG) at the Enterprise Products East docks located in Orange, TX. The Coast Guard is notifying the public of this proposed increase in LHG marine traffic on the Sabine-Neches Waterway and is soliciting comments relevant to the Coast Guard's preparation of a Letter of Recommendation (LOR) for issue to the Federal, State or local agency with jurisdiction over the proposed facility.

DATES: Comments and related material must be received on or before April 7, 2023.

ADDRESSES: You may submit comments identified by docket number USCG-2023-0111 using the Federal Decision Making portal at https://www.regulations.gov. See the “Public Participation and Request for Comments” portion of the SUPPLEMENTARY INFORMATION section for further instructions on submitting comments.

FOR FURTHER INFORMATION CONTACT: If you have questions about this notice of inquiry, call or email Scott Whalen, U.S. Coast Guard; telephone 409-719-5086, email scott.k.whalen@uscg.mil.

SUPPLEMENTARY INFORMATION:

I. Table of Abbreviations

CFR Code of Federal Regulations

COTP Captain of the Port

DHS Department of Homeland Security

LHG Liquified Hazardous Gas

U.S.C. United States Code

II. Background and Purpose

Under 33 CFR 127.007(a), an owner or operator planning to build a new facility handling Liquefied Hazardous Gas (LHG), or an owner or operator planning new construction to expand or modify marine terminal operations in an existing facility handling LHG, where the construction, expansion, or modification would result in an increase in the size and/or frequency of LHG marine traffic on the waterway associated with the proposed facility or modification to an existing facility, must submit a Letter of Intent (LOI) to the COTP of the zone in which the facility is or will be located. Under 33 CFR 127.007(e), an owner or operator planning such new construction or expansion of an existing facility must also file or update a Waterway Suitability Assessment (WSA) that addresses the proposed increase in LHG marine traffic in the associated waterway.

Under 33 CFR 127.009, after receiving an LOI, the COTP issues a LOR as to the suitability of the waterway for LNG or LHG marine traffic to the appropriate jurisdictional authorities. The LOR is based on a series of factors listed in 33 CFR 127.009 that relate to the physical nature of the affected waterway and issues of safety and security associated with LHG marine traffic on the affected waterway.

III. Discussion

Enterprise Products LLC, located in Orange, TX, submitted an LOI and WSA on August 15, 2022 regarding the company's proposed plans to handle and transport LHG at the Port of Port Arthur, TX facility.

The purpose of this notice is to solicit public comments on the proposed increase in LHG marine traffic on the Sabine-Neches Waterway. The Coast Guard believes that input from the public may be useful to the COTP with respect to validating the information provided in Enterprise Products' WSA and development of the LOR.

The goal of this input will be to gather information to help the COTP assess the suitability of the associated waterway for increased LHG marine traffic as it relates to navigational safety and maritime security. In addition to the other documents referenced in this notice, a brief summation of Enterprise Products' proposal is available for viewing in the public docket for this notice. Additionally, the Coast Guard will request comments and recommendations from the Area Maritime Security Committee, Port Arthur, TX. In late 2022, the Southeast Texas Waterways Advisory Council (SETWAC) Navigation Subcommittee met to assess the safety and security of Enterprise Products plan. On November 21, 2022, SETWAC submitted a letter of no objection to the COTP.

On January 24, 2011, the Coast Guard published Navigation and Vessel Inspection Circular (NVIC) 01-2011, “Guidance Related to Waterfront Liquefied Natural Gas (LNG) Facilities”. NVIC 01-2011 provides guidance for owners and operators seeking approval to build and operate LNG facilities. While NVIC 01-2011 is specific to LNG, it provides useful process information and guidance for owners and operators seeking approval to build and operate LHG facilities as well. The Coast Guard will refer to NVIC 01-2011 for process information and guidance in evaluating Enterprise Products' WSA. A copy of NVIC 01-2011 is available for viewing on the Coast Guard's website at https://www.dco.uscg.mil/Our-Organization/NVIC/Year/2010.

IV. Public Participation and Request for Comments

We encourage you to submit comments in response to this request for comments through the Federal Decision Making portal at https://www.regulations.gov. To do so, go to https://www.regulations.gov, type USCG-2023-0111 in the “SEARCH” box and click “SEARCH.” Next, look for this document in the Search Results column, and click on it. Then click on the Comment option. In your submission, please include the docket number for this notice of inquiry and provide a reason for each suggestion or recommendation. If your material cannot be submitted using https://www.regulations.gov, contact the person in the FOR FURTHER INFORMATION CONTACT section of this document for alternate instructions.

To view documents mentioned in this request for comments as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

This document is issued under authority of 5 U.S.C. 552(a).

Dated: March 3, 2023.
Molly. A. Wike,
Captain, U.S. Coast Guard, Captain of the Port Marine Safety Zone Port Arthur.

[FR Doc. 2023-04743 Filed 3-7-23; 8:45 am]

BILLING CODE 9110-04-P